Proclamation 10612 of August 31, 2023

National Preparedness Month, 2023

By the President of the United States of America

A Proclamation

In America, we pride ourselves on emerging from every crisis stronger than when we entered it. That is because our people are resilient—and when we invest in preparing them for disasters seen and unforeseen, we can meet every challenge together. This National Preparedness Month, we recommit to doing just that: Building a stronger and more resilient Nation and equipping Americans with the resources they need to remain safe and secure.

This year alone, historic flooding, wildfires, smoke, and extreme heat has claimed the lives of many Americans and, more broadly, threatened the lives and livelihoods of people across our Nation. Other Americans have had to face personal emergencies at a moment's notice—whether it is supply chains breaking down and preventing them from accessing the products they need, prolonged power outages because of extreme weather events, or a health emergency that puts a loved one in the hospital. And, climate change is making many of these challenges more ferocious, frequent, and costly.

To meet these challenges of today—and prepare for the crises of tomorrow—my Administration is taking historic action to invest in the security and well-being of America and Americans. That is what my Invest in America agenda is all about. Between the funding from the Bipartisan Infrastructure Law and the Inflation Reduction Act alone, we have secured more than $50 billion so far in climate resilience so that communities can better withstand the impacts of climate change and extreme weather. That includes making transportation infrastructure more resilient by elevating roads and bridges over projected flood zones, planting urban trees to mitigate heat, increasing pay for our Federal firefighters, and upgrading housing and buildings to make them more energy efficient and better able to withstand extreme weather. These investments are also about securing our future: They put us on a path to cut America's greenhouse gas emissions in half by 2030, help communities prepare for climate-related disasters, and invest in American workers and American-made products. Together, we will ensure that, when disaster hits, our economy stays strong, Americans' livelihoods remain secure, and critical goods and services are there when we need them most.

When disaster does strike, every American should have peace of mind knowing that they can access health care for themselves and their family. That is why we expanded Affordable Care Act health care coverage for millions of Americans through the Inflation Reduction Act, saving millions of working families an average of $800 a year on their health care premiums.

This National Preparedness Month, may we honor all of our first responders, who run toward disaster at a moment's notice. May we also recognize that our Nation is best prepared to face disaster when our national security, climate security, and economic security are strong and when every American has the resources and support they need. To learn more about readiness, visit www.Ready.gov or www.Listo.gov for Spanish speakers. With the help of our partners in every sector and across local, State, Tribal, and territorial governments, may we all meet this moment and protect our families, communities, and country for generations to come.

NOW, THEREFORE, I, JOSEPH R. BIDEN JR., President of the United States of America, by virtue of the authority vested in me by the Constitution and the laws of the United States, do hereby proclaim September 2023 as National Preparedness Month. I encourage all Americans to recognize the importance of preparedness and work together to enhance our resilience and readiness.

IN WITNESS WHEREOF, I have hereunto set my hand this thirty-first day of August, in the year of our Lord two thousand twenty-three, and of the Independence of the United States of America the two hundred and forty-eighth.

[FR Doc. 2023-19328

Filed 9-5-23; 8:45 am]

Billing code 3395-F3-P